DEPARTMENT OF ENERGY

Federal Energy Regulatory Commission

[Project No. 2853-073]

Montana Department of Natural Resources and Conservation; Notice of Scoping Meetings and Environmental Site Review and Soliciting Scoping Comments

Take notice that the following hydroelectric application has been filed with the Commission and is available for public inspection.

a. Type of Application: New Major License.

b. Project No.: 2853-073.

c. Date Filed: June 30, 2022.

d. Applicant: Montana Department of Natural Resources and Conservation (Montana DNRC).

e. Name of Project: Broadwater Hydroelectric Project (Broadwater Project or project).

f. Location: On the Missouri River near the town of Toston in Broadwater County, Montana. The project occupies approximately two acres of federal lands administered by the Bureau of Land Management.

g. Filed Pursuant to: Federal Power Act 16 U.S.C. 791(a)-825(r).

h. Applicant Contact: David Lofftus, Hydro Power Program Manager, Montana Department of Natural Resources and Conservation, 1424 9th Avenue, P.O. Box 201601, Helena, Montana 59620; Phone at (406) 444-6659; or email at dlofftus@mt.gov.

i. FERC Contact: Ingrid Brofman at (202) 502-8347, or ingrid.brofman@ferc.gov.

j. Deadline for filing scoping comments: January 13, 2023.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852. All filings must clearly identify the project name and docket number on the first page: Broadwater Hydroelectric Project (P-2853-073).

The Commission's Rules of Practice and Procedure require all intervenors filing documents with the Commission to serve a copy of that document on each person on the official service list for the project. Further, if an intervener files comments or documents with the Commission relating to the merits of an issue that may affect the responsibilities of a particular resource agency, they must also serve a copy of the document on that resource agency.

k. This application is not ready for environmental analysis at this time.

l. Project Description: The existing Broadwater Hydroelectric Project consists of: (1) a 630-foot-long, 24-foot-high concrete gravity dam with a 360-foot-long spillway containing seven inflatable rubber gates capable of raising the dam's crest elevation by 11 feet; (2) a 275-acre, 9-mile-long reservoir; (3) a 160-foot long rock jetty that extends upstream into the reservoir that serves to separate inflow to the powerhouse from the headworks of the non-project irrigation canal adjacent to the dam; (4) an intake integral with the powerhouse and covered by two inclined trashracks, each 20 feet wide and 40 feet high, with a clear bar spacing of 3 inches; (5) a 160-foot-long, 46-foot-wide, 64-foot high powerhouse containing a single Kaplan turbine with a rated capacity of 9.66 megawatts; (6) a 100-kilovolt, 2.8-mile-long transmission line; and (6) appurtenant facilities.

Montana DNRC operates the project in a run-of-river mode (minus flows diverted for non-project irrigation purposes at the dam) and generates an estimated average of 40,669 megawatt-hours per year.

Montana DNRC proposes the following modifications to existing project facilities: (1) remove the jetty that separates the hydropower intake and the non-project irrigation canal intake; (2) install a new angled screen with 6-inch spacing between the bars and install two parallel 100-foot-long, 10-foot-wide by 10-foot-high box culverts within the irrigation intake canal and a bulkhead near the current non-project irrigation headworks, and include the new angled screen and box culverts as licensed project facilities; (3) modernize the project trash rake (i.e., replace and recalibrate sensors on the rake) to minimize debris buildup on the dam intake and; (4) upgrade the Supervisory Control and Data Acquisition (SCADA) monitoring system (i.e., improving connectivity to the substation, protective relaying, and automation upgrades).

Montana DNRC proposes to continue to operate in an automated run-of-river mode throughout the year where outflow from the project approximates inflow (minus flows diverted for irrigation) as it does under the current license but proposes to modify its procedures for responding to an unplanned unit trip by maintaining higher flows downstream and more slowly returning reservoir levels to normal elevation to reduce the potential for fish stranding downstream of the dam.

m. A copy of the application can be viewed on the Commission's website at https://www.ferc.gov using the “eLibrary” link. Enter the docket number excluding the last three digits in the docket number field to access the document. For assistance, contact FERC Online Support.

You may also register at https://ferconline.ferc.gov/FERCOnline.aspx to be notified via email of new filings and issuances related to this or other pending projects. For assistance, please contact FERC Online Support at FERCOnlineSupport@ferc.gov.

n. Scoping Process: Pursuant to the National Environmental Policy Act (NEPA), Commission staff intends to prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS.

Scoping Meetings

Commission staff will hold two public scoping meetings to receive input on the scope of the environmental issues that should be analyzed in the NEPA document. The daytime meeting will focus on the concerns of resource agencies, non-governmental organizations (NGOs), and Native American tribes. The evening meeting will focus on receiving input from the public. All interested individuals, resource agencies, Native American tribes, and NGOs are invited to attend one or both of the meetings. The times and locations of these meetings are as follows:

Evening Scoping Meeting

Date: Tuesday, December 13, 2022

Time: 6:30 p.m. (MST)

Place: Broadwater County Fairgrounds, 4-H Building

Address: 189 U.S. Highway 12, Townsend, Montana 59644

Once at the County Fairgrounds, the 4-H Building is the largest building of three, on-site.

Daytime Scoping Meeting

Date: Wednesday, December 14, 2022

Time: 1:30 p.m. (MST)

Place: Montana DNRC Water Resources Building, Fred Buck Conference Room

Address: 1424 9th Ave., Helena, Montana 59620

Copies of the Scoping Document (SD1) outlining the subject areas to be addressed in the NEPA document were distributed to the parties on the Commission's mailing list. Copies of the SD1 will be available at the scoping meeting or may be viewed on the web at http://www.ferc.gov using the “eLibrary” link (see item m above).

Environmental Site Review

Montana DNRC and Commission staff will conduct an environmental site review of the project beginning at 1:30 p.m. on December 13, 2022. All interested individuals, agencies, tribes, and NGOs are invited to attend. All participants should meet at the project, which is located at 511 Toston Dam Road, Toston, Montana 59643. All participants are responsible for their own transportation to the site and during the site visit. Anyone with questions about the environmental site review should contact David Lofftus at (406) 444-6659 or DLofftus@mt.gov. Those individuals planning to participate in the site review should notify Mr. Lofftus of their intent, no later than December 7, 2022.

Objectives

At the scoping meetings, Commission staff will: (1) summarize the environmental issues tentatively identified for analysis in the NEPA document; (2) solicit from the meeting participants all available information, especially quantifiable data, on the resources at issue; (3) encourage statements from experts and the public on issues that should be analyzed in the NEPA document, including viewpoints in opposition to, or in support of, the staff's preliminary views; (4) determine the resource issues to be addressed in the NEPA document; and (5) identify those issues that require a detailed analysis, as well as those issues that do not require a detailed analysis.

Procedures

The meetings are recorded by a stenographer and become part of the formal record of the Commission proceeding on the project. Individuals, NGOs, Native American tribes, and agencies with environmental expertise and concerns are encouraged to attend the meetings and to assist the staff in defining and clarifying the issues to be addressed in the NEPA document.

Dated: November 15, 2022.
Debbie-Anne A. Reese,
Deputy Secretary.

[FR Doc. 2022-25560 Filed 11-22-22; 8:45 am]

BILLING CODE 6717-01-P